COMMODITY FUTURES TRADING COMMISSION

Energy and Environmental Markets Advisory Committee

AGENCY: Commodity Futures Trading Commission.

ACTION: Notice.

SUMMARY: The Commodity Futures Trading Commission (CFTC or Commission) is requesting nominations for Associate Members of the Energy and Environmental Markets Advisory Committee (EEMAC or Committee). The EEMAC is an advisory committee established by the Dodd-Frank Wall Street Reform and Consumer Protection Act.

DATES: The deadline for the submission of nominations is October 19, 2023.

ADDRESSES: Nominations should be emailed to EEMAC_Submissions@cftc.gov or sent by hand delivery or courier to Chris Lucas, Chief of Staff to Commissioner Summer K. Mersinger, Commodity Futures Trading Commission, Three Lafayette Centre, 1155 21st Street NW, Washington, DC 20581. Please use the title “Energy and Environmental Markets Advisory Committee” for any nominations you submit.

FOR FURTHER INFORMATION CONTACT: Lauren Fulks, EEMAC Secretary, (816) 960-7719 or email: lfulks@cftc.gov.

SUPPLEMENTARY INFORMATION: The EEMAC was established to conduct public meetings; submit reports and recommendations to the Commission; and otherwise serve as a vehicle for discussion and communication on matters of concern to exchanges, trading firms, end users, energy producers, and regulators regarding energy and environmental markets and their regulation by the Commission.

Pursuant to the EEMAC's authorizing statute, the EEMAC must have nine members. In addition, the EEMAC Charter requires that the Committee have approximately 9-20 Associate Members. With several Associate Members' terms recently expiring, Commissioner Summer K. Mersinger, the EEMAC's Sponsor, seeks additional Associate Members of the EEMAC.

Accordingly, the Commission invites the submission of nominations for EEMAC Associate Members who represent a wide diversity of opinions and a broad spectrum of interests related to the energy and environmental markets and their regulation by the Commission. To advise the Commission effectively, EEMAC Associate Members must have a high level of expertise and experience in the energy and/or environmental markets and the Commission's regulation of such markets, including from a historical perspective. To the extent practicable, the Commission will strive to select members reflecting wide ethnic, racial, gender, and age representation. All EEMAC Associate Members must be willing to participate in a public forum.

Each nomination submission must provide relevant information about the proposed Associate Member: the individual's name, title, organizational affiliation and address, email address and telephone number, as well as information that supports the individual's qualifications to serve as an Associate Member of the EEMAC (e.g., C.V. or resume). The submission must also include the name, email address, and telephone number of the person nominating the proposed Associate Member. Self-nominations are acceptable.

Submission of a nomination is not a guarantee of selection as an Associate Member of the EEMAC. As noted in the EEMAC's Charter, the CFTC identifies Associate Members of the EEMAC through a variety of methods. Such methods may include public requests for nominations for membership; recommendations from existing advisory committee members; consultations with knowledgeable persons outside the CFTC (industry, consumer groups, other state or federal government agencies, academia, etc.); requests to be represented received from individuals and organizations; and Commissioners' and CFTC staff's professional knowledge of those experienced in the energy and environmental markets. The office of the Commissioner primarily responsible for the EEMAC plays a primary, but not exclusive, role in this process and makes recommendations regarding membership to the Commission. The Commission, by vote, authorizes Associate Members to serve on the EEMAC.

Associate Members may be appointed as representatives, special government employees, or regular government employees. Associate Members serve at the pleasure of the Commission, and may be appointed to serve for one, two, or three-year terms. As required by the EEMAC Charter, Associate Members provide their reports and recommendations directly to the EEMAC and not the Commission. Associate Members do not have the right to vote on matters before the EEMAC and may not sign or otherwise formally approve reports or recommendations made by the EEMAC to the Commission. Associate Members do not receive compensation for their services, and are not reimbursed for travel and per diem expenses. The EEMAC meets at such intervals as are necessary to carry out its functions and must meet at least two times per year. Associate Members are expected to provide their advice and recommendations to EEMAC members during these meetings.

Paperwork Reduction Act

Notwithstanding any other provisions of the law, no person is required to respond to, nor shall any person be subjected to a penalty for failure to comply with, a collection of information subject to the requirements of the Paperwork Reduction Act, unless that collection of information displays a currently valid OMB Control Number. For this collection, OMB has issued control number 3038-0119.

Privacy Act of 1974

The information we collect about you is covered by the Privacy Act of 1974. The CFTC is providing this statement to you as required by 5 U.S.C. 552a(e)(3). We are authorized to collect information from you pursuant to the Federal Advisory Committee Act, 5 U.S.C. 1001 et seq., and 7 U.S.C. 2(a)(15). The purpose of this collection is to maintain information on CFTC advisory committee and subcommittee applicants and members, and those who make recommendations for committee or subcommittee memberships or otherwise interact with the CFTC regarding its advisory committees and subcommittees. The CFTC will use the information primarily for the administration of its advisory committees and subcommittees, including as part of the member evaluation and selection process. The CFTC may also share your information externally as a “routine use” with, for example, committee and subcommittee Chairs and co-Chairs to conduct committee and subcommittee activities, the public as permitted or required to provide information about the committee or subcommittee and receive input regarding the work of the committee or subcommittee, and with other Federal agencies and entities as necessary for oversight, litigation, and breach response. For a complete list of routine uses, please see the CFTC's system of records notice CFTC-58 Advisory Committees, available at https://www.cftc.gov/privacy and 88 FR 20146. Providing the requested information is voluntary, but if you choose not to provide it, the CFTC may not be able to consider you for membership on an advisory committee or subcommittee, or effectively administer its advisory committee or subcommittee activities.

(Authority: 7 U.S.C. 2(a)(15))

Dated: October 6, 2023.
Robert Sidman,
Deputy Secretary of the Commission.

[FR Doc. 2023-22577 Filed 10-11-23; 8:45 am]

BILLING CODE 6351-01-P